DEPARTMENT OF HOUSING AND URBAN DEVELOPMENT

[Docket No. FR-5601-N-17]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Department of the Army, Office of the Assistant Chief of Staff for Installation Management, DAIM-ZS, Room 8536, 2511 Jefferson Davis Hwy, Arlington, VA 22202; (These are not toll-free numbers).

Dated: April 26, 2012.
Mark R. Johnston,
Deputy Assistant Secretary for Special Needs.

TITLE V, FEDERAL SURPLUS PROPERTY PROGRAM FEDERAL REGISTER REPORT FOR 05/04/2012

Suitable/Available Properties

Buildings

Alabama

C1301

Ft. McClellan

Ft. McClellan AL 36205

Landholding Agency: Army

Property Number: 21201220017

Status: Excess

Comments: off-site removal only; 2,232 sf.; barracks; extensive repairs needed; secured area; need prior approval to access property

19 Bldgs.

Redstone Arsenal

Redstone Arsenal AL 35898

Landholding Agency: Army

Property Number: 21201220032

Status: Unutilized

Directions: 5450, 5655, 5658, 5671, 5672, 5673, 7289, 7355, 7368B, 7371A, 7371B, 7371C, 7661, 4180, 4823, 5689, 5690, 5695, 5697

Comments: off-site removal only; sf varies; usage varies; very poor conditions; contamination possible; extensive repairs needed; secured area; prior approval required to access property

21 Bldgs.

Redstone Arsenal

Redstone Arsenal AL 35898

Landholding Agency: Army

Property Number: 21201220034

Status: Unutilized

Directions: 1416, 1416A, 2575, 2576, 2592, 3203, 3211, 3212, 3213, 3214, 3215, 3411A, 3453, 3453A, 3476, 3554, 3641, 3789, 5445, 5446, 5449

Comments: off-site removal only; sf varies; usage varies; very poor conditions; contamination possible; extensive repairs needed; secured area; prior approval required to access property

Alaska

11 Bldgs.

Ft. Greely

Ft. Greely AK 99731

Landholding Agency: Army

Property Number: 21201220029

Status: Unutilized

Directions: 713, 714, 875, 876, 887, 888, 910, 911, 912, 913

Comments: off-site removal only; sf varies; housing; fair to poor conditions; asbestos and lead indentified; need repairs; need prior approval to access property

California

T4243

Ord Military Community

Seaside CA 93955

Landholding Agency: Army

Property Number: 21201220013

Status: Unutilized

Comments: 2,080 sf.; office space; extremely poor conditions; extensive repairs needed; asbestos & lead identified; remediation needed

19 Bldgs.

Ft. Irwin

Ft. Irwin CA 92310

Landholding Agency: Army

Property Number: 21201220027

Status: Unutilized

Directions: 243, 383, 548, 550, 565, 566, 569, 571, 575, 577, 582, 595, 596, 859, 867, 868, 931, 940, 6201

Comments: off-site removal only; sf varies; office space; fair to poor conditions; secured area; prior approval to access property

Hawaii

12 Bldgs.

Schofield Barracks

Wahiawa HI

Landholding Agency: Army

Property Number: 21201220009

Status: Unutilized

Directions: 2509, 2510, 2511, 2512, 2513, 2514, 2516, 2517, 3030, 3031, 3032, 3035

Comments: off-site removal only; sf. varies; usage varies; storage; good conditions

Kansas

Bldg. 431

Ft. Leavenworth

Ft. Leavenworth KS 66027

Landholding Agency: Army

Property Number: 21201220044

Status: Unutilized

Comments: off-site removal only; 2,294 sf.; vacant; poor conditions; need repairs; asbestos & lead; remediation needed; secured area; contact Army re: removal procedures

Kentucky

22 Bldgs.

Ft. Knox

Ft. Knox KY 40121

Landholding Agency: Army

Property Number: 21201220020

Status: Unutilized

Directions: 79, 204, 1610, 1996, 2955, 2959, 2965, 2980, 2991, 6531, 6533, 6560, 6561, 6563, 6564, 6565, 6566, 6592, 6594, 9183, 9319, 9320

Comments: off-site removal only; sf varies; usage varies; need repairs; lead and asbestos identified; need remediation

Maryland

Bldg. 724B

Aberdeen Proving Ground

Aberdeen MD 21005

Landholding Agency: Army

Property Number: 21201220003

Status: Unutilized

Comments: off-site removal only; 1 sf.; current use: safety shelter; moderate conditions; lead & asbestos identified; need remediation

New Jersey

4 Bldgs.

Picatinny Arsenal

Dover NJ 07806

Landholding Agency: Army

Property Number: 21201220011

Status: Unutilized

Directions: 1179, 1179A, 1179C, 1179D

Comments: off-site removal only; sf varies; usage varies; need repairs; contamination; remediation required; secured area; need prior approval to access property; contact Army for more details

New York

Bldg. 1345

Ft. Drum

Ft. Drum NY

Landholding Agency: Army

Property Number: 21201220030

Status: Underutilized

Comments: off-site removal only; 7,219 sf.; vehicle maint. shop.; extensive repairs needed; secured area; need prior approval to access property

5 Properties

Ft. Drum

Ft. Drum NY 13602

Landholding Agency: Army

Property Number: 21201220031

Status: Unutilized

Directions: BRG02, BRG19, BRG38, BRG62, BRG63

Comments: off-site removal only; sf varies; bridge; poor conditions; needs repairs; secured area; prior approval needed to access properties

North Carolina

4 Bldgs.

Ft. Bragg

Ft. Bragg NC 28310

Landholding Agency: Army

Property Number: 21201220036

Status: Unutilized

Directions: A3938, A3940, A3942, A4338

Comments: off-site removal only; sf varies; usage varies; extensive repairs needed; public will have to go through security check each time to access property; approval needed to access and relocate bldgs.

Oklahoma

2 Bldgs.

McAlester Army Ammo Plant

McAlester OK

Landholding Agency: Army

Property Number: 21201220018

Status: Unutilized

Directions: 662,749

Comments: off-site removal only; sf varies; usage varies; poor conditions; need repairs; secured area; need prior approval to access property

Pennsylvania

19 Bldgs.

DLA Distribution

New Cumberland PA

Landholding Agency: Army

Property Number: 21201220006

Status: Underutilized

Directions: 12, 14, 17, 65, 69, 72, 73, 75, 77, 81, 293, 401, 403, 404, 900, 2007, 2009, 2013, 2020

Comments: off-site removal only; sf. varies; usage varies; fair conditions; asbestos possible; need remediation; secured area; transferee needs prior approval to gain access; contact Army for more details

Tennessee

Bldg. 530

VTS SMYRNA

Smyrna TN 37167

Landholding Agency: Army

Property Number: 21201220033

Status: Excess

Comments: off-site removal only; 1,200 sf.; storage; need repairs; need prior approval to access property

Texas

B-1301

Ft. Bliss

Ft. Bliss TX 79916

Landholding Agency: Army

Property Number: 21201220001

Status: Underutilized

Comments: off-site removal only; 18,739 sf.; current use: thrift shop; poor conditions; need repairs

Bldg. 7194

Ft. Bliss

Ft. Bliss TX 79916

Landholding Agency: Army

Property Number: 21201220002

Status: Unutilized

Comments: off-site removal only; 2,125 sf.; current use: housing; poor conditions—need repairs; asbestos & lead identified; need remediation

Utah

4 Bldgs.

Tooele Army Depot

Tooele UT 84074

Landholding Agency: Army

Property Number: 21201220007

Status: Unutilized

Directions: 524, 1255, 1420, 1450

Comments: off-site removal only; sf. varies; usage varies; storage; needs major repairs; secured area; prior approval to gain access to property; contact Army for more details

Vermont

Bldg. 126

Ethan Allen Firing Range

Jericho VT 05465

Landholding Agency: Army

Property Number: 21201220035

Status: Unutilized

Comments: off-site removal only; 1,680 sf.; Admin.; extremely poor conditions; need repairs

Virginia

8 Bldgs.

Ft. Belvoir

Ft. Belvoir VA 22060

Landholding Agency: Army

Property Number: 21201220004

Status: Excess

Directions: 808, 1150, 1197, 2303, 2903, 2905, 2907, 3137

Comments: off-site removal only; sf. varies; usage varies; good to poor conditions; may require repairs; contact Army for more details on specific properties

Wisconsin

MSH6A

Ft. McCoy

Ft. McCoy WI 54656

Landholding Agency: Army

Property Number: 21201220016

Status: Unutilized

Comments: off-site removal only; 240 sf.; storage; poor conditions; repairs needed; lead identified; remediation required; secured area; prior approval to access the property is required

Unsuitable Properties

Buildings

District of Columbia

Bldg. 55

Ft. McNair

Ft. McNair DC 20022

Landholding Agency: Army

Property Number: 21201220014

Status: Underutilized

Comments: nat'l security concerns; public access denied & no alternative method to gain access w/out compromising nat'l security

Reasons: Secured Area

Bldg. 53

Ft. McNair

Ft. McNair DC 20024

Landholding Agency: Army

Property Number: 21201220015

Status: Unutilized

Comments: nat'l security concerns; public access denied & no alternative method to gain access w/out compromising nat'l security

Reasons: Secured Area

Kentucky

Bldg. 2435A

Ft. Campbell

Ft. Campbell KY 42223

Landholding Agency: Army

Property Number: 21201220005

Status: Underutilized

Comments: nat'l security concerns; public access is denied; only authorized military personnel; no alternative method for public to gain access w/out compromising nat'l security

Reasons: Secured Area

Missouri

11 Bldgs.

Ft. Leonard Wood

Ft. Leonard Wood MO 65473

Landholding Agency: Army

Property Number: 21201220019

Status: Excess

Directions: 499, 720, 745, 2555, 2556, 2557, 2558, 5076, 8208, 8370, 30

Comments: nat'l security concerns; public access denied & no alternative method to gain access w/out compromising nat'l security

Reasons: Secured Area

Oklahoma

MA040

Regional Training Institute

Oklahoma City OK

Landholding Agency: Army

Property Number: 21201220010

Status: Unutilized

Comments: nat'l security concerns; public access denied & no alternative method to gain access w/out compromising nat'l security

Reasons: Secured Area

Bldg. 137CO

Camp Gruber

Braggs OK 74423

Landholding Agency: Army

Property Number: 21201220028

Status: Unutilized

Comments: nat'l security concerns; public access denied and no alternative method to gain access w/out compromising nat'l security

Reasons: Secured Area

Pennsylvania

Bldg. 71

Tobyhanna Army Depot

Tobyhanna PA 18466

Landholding Agency: Army

Property Number: 21201220008

Status: Underutilized

Comments: nat'l security concerns; public access is denied & no alternative method to gain access w/out compromising nat'l security

Reasons: Secured Area

South Carolina

Bldg. 4407

Ft. Jackson

Ft. Jackson SC

Landholding Agency: Army

Property Number: 21201220023

Status: Excess

Comments: nat'l security concerns; public access denied and no alternative method to gain access w/out compromising nat'l security

Reasons: Secured Area

Bldg. 1727

Ft. Jackson

Ft. Jackson SC

Landholding Agency: Army

Property Number: 21201220024

Status: Unutilized

Comments: nat'l security concerns; public access denied and no alternative method to gain access w/out compromising nat'l security

Reasons: Secured Area

3 Bldgs.

Ft. Jackson

Ft. Jackson SC 29207

Landholding Agency: Army

Property Number: 21201220026

Status: Excess

Directions: 2441,4461,2451

Comments: nat'l security concerns; public access denied and no alternative method to gain access w/out compromising nat'l security

Reasons: Secured Area

Virginia

15 Bldgs.

Ft. Pickett Trng Ctr

Blackstone VA 23824

Landholding Agency: Army

Property Number: 21201220037

Status: Excess

Directions: T2864, T2565, R0065, R0066, R0067, R0068, R0078, R0108, R0109, R0110, R0112, R0113, R0114, R0215, R0233

Comments: nat'l security concerns; public access and no alternative method to gain access w/out compromising nat'l security

Reasons: Secured Area

16 Bldgs.

Ft. Pickett Trng Ctr

Blackstone VA 23824

Landholding Agency: Army

Property Number: 21201220038

Status: Excess

Directions: T2814, T2815, T2816, T2817, T2823, T2826, T2827, T2828, T2829, T2838, T2841, T2856, T2860, T2861, T2863, T2862

Comments: nat'l security concerns; public access denied & no alternative method to gain access w/out compromising nat'l security

Reasons: Secured Area

14 Bldgs.

Ft. Pickett Trng Ctr

Blackstone VA 23824

Landholding Agency: Army

Property Number: 21201220039

Status: Excess

Directions: T2632, T2633, T2635, T2636, T2638, T2639, T2646, T2647, T2639, T2642, T2643, T2644, T2646, T2647, T2648, T2649, T26811

Comments: nat'l security concerns; public access denied and no alternative method to gain access w/out compromising nat'l security

Reasons: Secured Area

15 Bldgs.

Ft. Pickett Trng Ctr

Blackstone VA 23824

Landholding Agency: Army

Property Number: 21201220040

Status: Excess

Directions: T2616, T2617, T2818, T2620, T2621, T2622, T2623, T2624, T2625, T2626, T2627, T2628, T2629, T2630, T2631

Comments: nat'l security concerns; public access denied and no alternative method to gain access w/out compromising nat'l security

Reasons: Secured Area

15 Bldgs.

Ft. Pickett Trng Ctr

Blackstone VA 23824

Landholding Agency: Army

Property Number: 21201220041

Status: Excess

Directions: R0234, R0235, T1650, T1651, T1653, T2022, T2023, T2024, T2238, T2376, T2604, T2612, T2613, T2614, T2615

Comments: nat'l security concerns; public access denied and no alternative method to gain access w/out compromising nat'l security

Reasons: Secured Area

12 Bldgs.

Ft. Pickett Trng Ctr

Blackstone VA 23824

Landholding Agency: Army

Property Number: 21201220042

Status: Excess

Directions: A1811, AT306, AT307, R0013, R0014, R0021, R0026, R0027, R0040, R0055, R0063, R0064

Comments: nat'l security concerns; public access denied and no alternative method to gain access w/out compromising nat'l security

Reasons: Secured Area

Washington

Bldg. 28

JBLM

JBLM WA

Landholding Agency: Army

Property Number: 21201220021

Status: Underutilized

Comments: nat'l security concerns; public access denied & no alternative method to gain access w/out compromising nat'l security

Reasons: Secured Area

Land

South Carolina

Skate Park

Ft. Jackson

Ft. Jackson SC

Landholding Agency: Army

Property Number: 21201220022

Status: Underutilized

Comments: nat'l security concerns; public access denied & no alternative method to gain access w/out compromising nat'l security

Reasons: Secured Area

Basketball Court

Ft. Jackson

Ft. Jackson SC

Landholding Agency: Army

Property Number: 21201220025

Status: Unutilized

Comments: nat'l security concerns; public access denied and no alternative method to gain access w/out compromising nat'l security

Reasons: Secured Area

[FR Doc. 2012-10454 Filed 5-3-12; 8:45 am]

BILLING CODE 4210-67-P